DEPARTMENT OF STATE

[Public Notice: 7036]

Exchange Visitor Program—Secondary School Students

AGENCY: Department of State.

ACTION: Notice of public meeting.

SUMMARY: The Department is announcing a public meeting to provide interested members of the public the opportunity to discuss the proposed amendments to the secondary school student regulatory provisions published in the Federal Register on May 3, 2010 (see 75 FR 23196). As stated in that Notice, the Department proposes to amend existing regulations regarding the screening, selection, school enrollment, orientation, and monitoring of student participants and their placement with host families as well as the screening, selection, orientation, and monitoring of hosting families. Given the widespread interest in secondary school student exchange programs among the general public, the Department will hold this public meeting to further solicit comment and discussion on the proposed amendments to these regulations.

The proposed rule, published May 3, 2010, provided a 30-day written comment period which, by its terms, closes June 2, 2010. Prior to the publication of the proposed rule, the Department also published an advance notice of proposed rulemaking to solicit comments from sponsors and the public on current best practices in the secondary school student exchange industry (See 74 FR 45385, Sept. 2, 2009). In response to the advanced notice of proposed rulemaking, the Department received 97 comments that contributed significantly to the identification of the sixteen areas outlined in the proposed rule. As of June 1, approximately 1,000 comments have been received in response to the May 1 proposed rule publication. Public comments received for both the advanced notice of proposed rulemaking and the notice of proposed rulemaking are available for public inspection at http://www.regulations.gov/search/Regs/home.html#home (for “keyword,” enter 1400-AC56).

DATES: The public hearing will be held 9 a.m.-11 a.m. on Thursday, June 17, 2010.

ADDRESSES: The public hearing will take place in the Dean Acheson auditorium at the U.S. Department of State, Harry S. Truman Building, 2100 C Street, NW., Washington, DC 20522 (Metro stop: Foggy Bottom, on Blue and Orange Line).

REGISTRATION: To gain entry into the Harry S. Truman Building, a member of the public should provide the following information to the Department of State not later than Friday, June 11: The individual's full name, date of birth, type of identification (valid driver's license or passport) and its identification number, and whether there is a request for reasonable accommodation. This data is requested pursuant to Public Law 99-399 (Omnibus Diplomatic Security and Antiterrorism Act of 1986), as amended; Public Law 107-56 Stat.272, 10/26/2001 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information. Please provide to Michele Peregrin by E-mail: PeregrinMS@state.gov or by phone: 202-632-6445.

FOR FURTHER INFORMATION CONTACT: Michele Peregrin, Staff Assistant, Office of the Assistant Secretary, 202-632-6445.

Dated: June 2, 2010.
Stanley S. Colvin,
Deputy Assistant Secretary for Private Sector Exchange, Department of State.

[FR Doc. 2010-13585 Filed 6-4-10; 8:45 am]

BILLING CODE 4710-05-P